DEPARTMENT OF HOMELAND SECURITY

Coast Guard

33 CFR Part 117

[Docket No. USCG-2018-0070]

Drawbridge Operation Regulation; St. Johns River, Jacksonville, FL

AGENCY: Coast Guard, DHS.

ACTION: Notice of deviation from drawbridge regulation.

SUMMARY: The Coast Guard has issued a temporary deviation from the operating schedule that governs the Florida East Coast (FEC) Railroad Bridge across the St. Johns River, mile 24.9, at Jacksonville, FL. The deviation is necessary to accommodate maintenance and repairs on the bridge. This deviation allows the bridge to remain closed to navigation with partial openings at pre-determined times during the maintenance period.

DATES: This deviation is effective without actual notice March 16, 2018 through 11:59 p.m. on March 23, 2018. For the purposes of enforcement, actual notice will be used from 1 p.m. on March 10, 2018 through March 16, 2018.

ADDRESSES: The docket for this deviation, USCG-2018-0070 is available at http://www.regulations.gov. Type the docket number in the “SEARCH” box and click “SEARCH”. Click on Open Docket Folder on the line associated with this deviation.

FOR FURTHER INFORMATION CONTACT: If you have questions on this temporary deviation, call or email LT Allan Storm, U.S. Coast Guard Sector Jacksonville, Waterways Management Division; telephone 904-714-7616, email Allan.H.Storm@uscg.mil.

SUPPLEMENTARY INFORMATION: The owner of the bridge, Florida East Coast Railway, requested a temporary deviation. The existing operating racks were found damaged during maintenance. The Florida East Coast (FEC) Railroad Bridge across the St. Johns River, mile 24.9, at Jacksonville, Florida is a single-leaf bascule bridge with at vertical clearance of 5 feet at mean high water in the closed position. The existing bridge operating regulation is published in 33 CFR 117.325(b).

This temporary deviation allows the bridge to remain closed to navigation from 1 p.m. on March 10, 2018 through 7:59 a.m. on March 18, 2018. The bridge will be allowed to remain in the closed to navigation positon with partial openings from 8 a.m. to 9:30 a.m. on March 18, 2018; from 8:45 a.m. to 10:15 a.m. on March 19, 2018; from 9:45 a.m. to 11:15 a.m. on March 20, 2018; from 10:30 a.m. to 12 p.m. and 4:15 p.m. to 5:45 p.m. on March 21, 2018; from 11:30 a.m. to 1 p.m. and 5 p.m. to 6:30 p.m. on March 22, 2018; and from 12:15 p.m. to 1:45 p.m. and 6 p.m. to 7:30 p.m. on March 23, 2018. During these designated time periods, the bridge will provide a partial opening with a vertical clearance of 75 feet at mean high water at the center of the channel. This temporary deviation has been coordinated with waterway users. No objections to the proposed temporary deviation were raised.

Vessels able to pass through the bridge in the closed position may do so at anytime. The bridge will not be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Barry L. Dragon,
Director, Bridge Branch, Seventh Coast Guard District.

[FR Doc. 2018-05339 Filed 3-15-18; 8:45 am]

BILLING CODE 9110-04-P